SECURITIES AND EXCHANGE COMMISSION

[Release No. IA-5646]

Notice of Intention to Cancel Registration Pursuant to section 203(H) of the Investment Advisers Act of 1940

December 14, 2020.

Notice is given that the Securities and Exchange Commission (the “Commission”) intends to issue an order, pursuant to section 203(h) of the Investment Advisers Act of 1940 (the “Act”), cancelling the registration of Family Office Partners, Inc. [File No. 801-110022], hereinafter referred to as the “registrant.”

Section 203(h) of the Act provides, in pertinent part, that if the Commission finds that any person registered under section 203 of the Act, or who has pending an application for registration filed under that section, is no longer in existence, is not engaged in business as an investment adviser, or is prohibited from registering as an investment adviser under section 203A of the Act, the Commission shall by order, cancel the registration of such person.

Section 203A of the Act prohibits an investment adviser from registering with the Commission under certain circumstances. Rule 203A-2(d) under the Act provides an exemption to this prohibition, permitting an adviser to register with the Commission if the adviser would otherwise be required to register as an investment adviser with 15 or more state securities authorities (“multi-state adviser exemption”). The registrant indicated on its most recently filed Form ADV that it is relying on the multi-state adviser exemption to register with the Commission and that it has no clients and no assets under management.¹ It appears that the registrant is not eligible for the multi-state adviser exemption because it is not required to register as an investment adviser with 15 or more state securities authorities. Therefore, it appears that the registrant is prohibited from registering as an investment adviser with the Commission. Furthermore, the registrant has not filed a Form ADV annual updating amendment as required by rule 204-1 under the Act.² Therefore, it appears that the registrant is not in existence or otherwise not engaged in business as an investment adviser. Accordingly, the Commission believes that reasonable grounds exist for a finding that the registrant is not eligible to be registered with the Commission as an investment adviser and that the registration should be cancelled pursuant to section 203(h) of the Act.

¹ The registrant filed its most recent Form ADV, which was an “other-than-annual amendment,” on May 31, 2017.

² Rule 204-1 under the Act requires any adviser that is required to complete Form ADV to amend the form at least annually and to submit the amendments electronically through the Investment Adviser Registration Depository.

Notice is also given that any interested person may, January 8, 2021, at 5:30 p.m., submit to the Commission in writing a request for a hearing on the cancellation, accompanied by a statement as to the nature of his or her interest, the reason for such request, and the issues, if any, of fact or law proposed to be controverted, and he or she may request that he or she be notified if the Commission should order a hearing thereon. Any such communication should be emailed to the Commission's Secretary at Secretarys-Office@sec.gov.

At any time after January 8, 2021, the Commission may issue an order cancelling the registration, upon the basis of the information stated above, unless an order for a hearing on the cancellation shall be issued upon request or upon the Commission's own motion. Persons who requested a hearing, or who requested to be advised as to whether a hearing is ordered, will receive any notices and orders issued in this matter, including the date of the hearing (if ordered) and any postponements thereof. Any adviser whose registration is cancelled under delegated authority may appeal that decision directly to the Commission in accordance with rules 430 and 431 of the Commission's rules of practice (17 CFR 201.430 and 431).

ADDRESSES: The Commission: Secretarys-Office@sec.gov.

FOR FURTHER INFORMATION CONTACT: Alexis Palascak, Senior Counsel at 202-551-6999; SEC, Division of Investment Management, Investment Adviser Regulation Office, 100 F Street NE, Washington, DC 20549-8549.

For the Commission, by the Division of Investment Management, pursuant to delegated authority.³
³ 17 CFR 200.30-5(e)(2).
J. Matthew DeLesDernier,
Assistant Secretary.

[FR Doc. 2020-27788 Filed 12-16-20; 8:45 am]

BILLING CODE 8011-01-P